DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of human remains was made by Peabody Museum of Archaeology and Ethnology professional staff in consultation with representatives of the Aleut Corporation; Aleutian/Pribilof Islands Association, Inc.; Ounalashka Corporation; and the Qawalangin Tribe of Unalaska.

In 1872, human remains representing one individual were collected from the Amaknak Spit site, Dutch Harbor, Unalaska, AK, by William H. Dall, who donated these human remains to the Peabody Museum of Archaeology and Ethnology that same year. No known individual was identified. No associated funerary objects are present.

In 1886, human remains representing one individual were collected from a cave at Unalaska, AK, by Alice C. Fletcher, who donated these human remains to the Peabody Museum of Archaeology and Ethnology in 1887. No known individual was identified. No associated funerary objects are present.

Peabody Museum of Archaeology and Ethnology documentation describes both of these sets of human remains as “Aleut.” Historical documents and consultation information indicate that the Qawalangin Tribe of Unalaska, which is today represented by the Ounalashka Corporation, has traditionally occupied the area of the Aleutian Islands from which the human remains were collected.

Based on the above-mentioned information, officials of the Peabody Museum of Archaeology and Ethnology have determined that, pursuant to 43 CFR 10.2 (d) (1), the human remains listed above represent the physical remains of two individuals of Native American ancestry. Officials of the Peabody Museum of Archaeology and Ethnology also have determined that, pursuant to 43 CFR 10.2 (e), there is a relationship of shared group identity that can be reasonably traced between these Native American human remains and the Qawalangin Tribe of Unalaska, which is represented by the Ounalashka Corporation.

This notice has been sent to officials of the Aleut Corporation; Aleutian/Pribilof Islands Association, Inc.; Ounalashka Corporation; and the Qawalangin Tribe of Unalaska. Representatives of any other Indian tribe that believes itself to be culturally affiliated with these human remains should contact Patricia Capone, Repatriation Coordinator, Peabody Museum of Archaeology and Ethnology, Harvard University, 11 Divinity Avenue, Cambridge, MA 02138, telephone (617) 496-3702, before April 24, 2002. Repatriation of the human remains to the Qawalangin Tribe of Unalaska, which is represented by the Ounalashka Corporation, may begin after that date if no additional claimants come forward.

Dated: February 5, 2002.
Robert Stearns,
Manager, National NAGPRA Program.

[FR Doc. 02-7006 Filed 3-22-02; 8:45 am]

BILLING CODE 4310-70-S